DEPARTMENT OF ENERGY

Federal Energy Regulatory Commission

Combined Notice of Filings #1

Take notice that the Commission received the following electric rate filings:

Docket Numbers: ER10-2265-018; ER10-1581-024; ER10-2783-016; ER10-2784-016; ER10-2969-016; ER11-1846-009; ER11-1847-009; ER11-1850-009; ER11-2062-026; ER11-2175-004; ER11-2176-003; ER11-2598-012; ER11-3188-004; ER11-3418-006; ER11-4307-027; ER11-4308-027; ER12-224-005; ER12-225-005; ER12-2301-004; ER12-261-026; ER13-1192-006; ER17-764-004; ER17-765-004; ER17-767-004.

Applicants: NRG Power Marketing LLC, Arthur Kill Power LLC, Astoria Gas Turbine Power LLC, Direct Energy Business, LLC, Direct Energy Business Marketing, LLC, Direct Energy Marketing Inc., Direct Energy Services, LLC, Energy Plus Holdings LLC, Gateway Energy Services Corporation, Green Mountain Energy Company, Independence Energy Group LLC, Long Beach Peakers LLC, Oswego Harbor Power LLC, Reliant Energy Northeast LLC, SGE Energy Sourcing, LLC, Stream Energy Columbia, LLC, Stream Energy Delaware, LLC, Stream Energy Illinois, LLC, Stream Energy Maryland, LLC, Stream Energy New Jersey, LLC, Stream Energy New York, LLC, Stream Ohio Gas & Electric, LLC, XOOM Energy, LLC, Stream Energy Pennsylvania, LLC.

Description: Notice of Change in Status of NRG Power Marketing LLC, et al.

Filed Date: 2/3/21.

Accession Number: 20210203-5168.

Comments Due: 5 p.m. ET 2/24/21.

Docket Numbers: ER21-736-001.

Applicants: RE Slate 1 LLC.

Description: Tariff Amendment: Supplement to Petition for Market-Based Rate Authority to be effective 1/25/2021.

Filed Date: 2/4/21.

Accession Number: 20210204-5079.

Comments Due: 5 p.m. ET 2/16/21.

Docket Numbers: ER21-908-000.

Applicants: Western Aeon Energy Trading LLC.

Description: Amendment to January 15, 2021 Western Aeon Energy Trading LLC tariff filing.

Filed Date: 2/3/21.

Accession Number: 20210203-5160.

Comments Due: 5 p.m. ET 2/24/21.

Docket Numbers: ER21-1042-000.

Applicants: Midcontinent Independent System Operator, Inc.

Description: § 205(d) Rate Filing: 2021-02-04_SA 2988 MidAmerican-MidAmerican 3rd Rev GIA (J500) to be effective 1/22/2021.

Filed Date: 2/4/21.

Accession Number: 20210204-5029.

Comments Due: 5 p.m. ET 2/25/21.

Docket Numbers: ER21-1043-000.

Applicants: Southern California Edison Company.

Description: Tariff Cancellation: Cancel DSA & IFA Alta Mesa Power Partners, LLC SA No. 28 & 29 WDT042 to be effective 4/6/2021.

Filed Date: 2/4/21.

Accession Number: 20210204-5070.

Comments Due: 5 p.m. ET 2/25/21.

Docket Numbers: ER21-1044-000.

Applicants: Tri-State Generation and Transmission Association, Inc.

Description: § 205(d) Rate Filing: Amendment to Tri-State Rate Schedule FERC No. 252 to be effective 11/24/2020.

Filed Date: 2/4/21.

Accession Number: 20210204-5122.

Comments Due: 5 p.m. ET 2/25/21.

Docket Numbers: ER21-1045-000.

Applicants: PJM Interconnection, L.L.C.

Description: § 205(d) Rate Filing: Original ISA, Service Agreement No. 5887; Queue No. AF2-045 to be effective 1/5/2021.

Filed Date: 2/4/21.

Accession Number: 20210204-5123.

Comments Due: 5 p.m. ET 2/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2021.
Nathaniel J. Davis, Sr.,
Deputy Secretary.

[FR Doc. 2021-02732 Filed 2-9-21; 8:45 am]

BILLING CODE 6717-01-P